POSTAL SERVICE

39 CFR Part 111

New Standards for First-Class Mail and Priority Mail Services

AGENCY: Postal Service.

ACTION: Final rule.

SUMMARY: The Postal Service will adopt new mailing standards and prices on May 14, 2007, to support most of the pricing change recommended by the Postal Regulatory Commission and approved by the Governors of the United States Postal Service. After a reconsideration by the Postal Regulatory Commission, we are lowering the price for the Priority Mail flat-rate box to $8.95 from the previously recommended $9.15, and extending the $0.17 nonmachinable surcharge to all nonmachinable single-piece and presorted First-Class Mail letters, regardless of weight.

EFFECTIVE DATE: 12:01 a.m. on May 14, 2007.

FOR FURTHER INFORMATION CONTACT: Joel Walker, 202-268-7261.

SUPPLEMENTARY INFORMATION: The Postal Service's request in Docket No. R2006-1 included mail classification changes, new pricing structures, and price changes for most domestic mailing services. This final rule provides new revisions to Mailing Standards of the United States Postal Service, Domestic Mail Manual (DMM) that we will adopt to implement two items that were reconsidered in the R2006-1 pricing change.

You can find more information about the pricing change at http://www.usps.com/ratecase, including our proposed and final rules for all of the rate and classification changes. Our Web site provides frequently asked questions, press releases, and Mailers Companion and MailPro articles for business mailers. We also posted a new version of the DMM with all of the prices and standards effective May 14, including the reconsidered prices in this final rule. We encourage you to use these materials as you prepare for the pricing change.

Background

The Postal Service Board of Governors set May 14, 2007, as the implementation date for new prices and related changes for all classes of mail and extra services, with the exception of Periodicals mail, which we will implement on July 15, 2007. While the Governors acted to implement all of the Postal Regulatory Commission's recommended rates, they also asked the Commission to reconsider three issues: the prices for Standard Mail flats, the application of the nonmachinable surcharge for First-Class Mail letters, and the price for the Priority Mail flat-rate box.

On April 27, 2007, the Commission issued its Opinion and Recommended Decision on Reconsideration regarding the nonmachinable surcharge for First-Class Mail letters and the price for the Priority Mail flat-rate box. The Commission recommended that we remove the “1-ounce or less” limitation on the nonmachinable surcharge for First-Class Mail letters, and charge $8.95 for the Priority Mail flat-rate box. The Postal Service Board of Governors approved the recommended changes and set May 14, 2007, as the effective date.

Summary of First-Class Mail Changes

Letter-rate First-Class Mail pieces with any of the nonmachinable characteristics in DMM 201.2.1 are subject to a $0.17 nonmachinable surcharge. Originally the Commission recommended the surcharge only for pieces weighing 1 ounce or less.

Summary of Priority Mail Changes

The USPS-produced flat-rate box is charged $8.95, not $9.15 as the Commission originally recommended.

We adopt the following amendments to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

Mailing Standards of the United States Postal Service, Domestic Mail Manual (DMM)

[Revise the rate tables and the text throughout the DMM to apply a $0.17 nonmachinable surcharge to all First-Class Mail letters that meet one or more of the nonmachinable characteristics in 101.1.2.]

100 Retail Mail: Letters, Cards, Flats, and Parcels

* * * * *

120 Retail Mail: Priority Mail

123 Rates and Eligibility

1.0 Priority Mail Rates and Fees

[Revise the rate tables to change the Priority Mail flat-rate box price to $8.95.]

* * * * *

1.5 Flat-Rate Boxes and Envelopes

* * * * *

1.5.1 Flat-Rate Boxes—Rate and Eligibility

[Update the flat-rate box price to $8.95 as follows:]

Each USPS-produced Priority Mail flat-rate box is charged $8.95, regardless of the actual weight of the piece or its destination. Only USPS-produced flat-rate boxes are eligible for the flat-rate box rate.

* * * * *

Neva R. Watson,
Attorney, Legislative.

[FR Doc. E7-9129 Filed 5-9-07; 8:45 am]

BILLING CODE 7710-12-P